DEPARTMENT OF HEALTH AND HUMAN SERVICES

National Institutes of Health

Notice To Announce the National Eye Institute (NEI) Draft Strategic Plan; Request for Information

AGENCY: National Institutes of Health, HHS.

ACTION: Notice.

SUMMARY: This Request for Information (RFI) is intended to gather broad public input to assist the National Eye Institute (NEI), National Institutes of Health (NIH) in reviewing the draft strategic plan document accessible from the NEI Strategic Plan website. NEI invites input from vison researchers in academia and industry, health care professionals, patient advocates and advocacy organizations, scientific or professional organizations, federal agencies, and other interested members of the public. Organizations are strongly encouraged to submit a single response that reflects the views of their organization and their membership as a whole.

DATES: This Request for Information is open for public comment and must be received by June 7, 2021 to ensure consideration.

ADDRESSES: Comments must be submitted electronically at NEIPlan@mail.nih.gov.

FOR FURTHER INFORMATION CONTACT: Please direct all inquiries to NEIplan@mail.NIH.gov and to Nora Wong, 301-496-4308, nora.wong@NIH.gov. To learn about strategic planning activities at NEI, please visit https://www.nei.nih.gov/about/strategic-planning.

SUPPLEMENTARY INFORMATION: Charged to protect and preserve the eyes and vision of the American people, NEI supports basic and clinical research that unravels the mysteries of how vision works at a fundamental level and provides patients with new therapies and standards of care that maintain and improve quality of life.

In accordance with the 21st Century Cures Act, NIH institutes are required to regularly update their strategic plans. The new NEI Strategic Plan seeks to distill those reflections into a cohesive document that will guide efforts to address those gaps and opportunities over the next five years. NEI has always been—and will continue to be—committed to high quality investigator-initiated research and will fund the best science across the broad spectrum of vision research. Ultimately, NEI stakeholders provide the catalyst for identifying and implementing the goals.

NEI has been incorporating broad public and expert input in the development of this plan, starting in the winter of 2019-2020 with an initial Request for Information (RFI). This public comment period engaged perspectives from scientists, clinicians, patients, vision advocates, and the public. NEI received a robust response to the RFI, which informed the selection and agendas of expert panels for seven cross-cutting areas of emphasis during the spring and summer of 2020. NEI incorporated the topics covered in the RFI and panels into the planning document and presented the information publicly before the NAEC.

Under each area of emphasis, NEI provides a summary of goals related to research needs, gaps, and opportunities for the institute to address over the next five years.

Areas of Emphasis

Visual System in Health and Disease

• From Genes to Disease Mechanisms

• Biology and Neuroscience of Vision

• Immune System and Eye Health

Capitalizing on Emerging Fields

• Regenerative Medicine

• Data Science

Preventing Vision Loss and Enhancing Well-Being

• Individual Quality of Life

• Public Health and Disparities Research

Information Requested

This RFI invites comments from researchers in academia and industry, health care professionals, patient advocates and health advocacy organizations, scientific or professional organizations, federal agencies, and other interested members of the public on the draft NEI Strategic Plan at https://www.nei.nih.gov/about/strategic-planning. When developing comments, please read the draft strategic plan and provide any high-level, content related feedback by submitting a written response to neiplan@mail.nih.gov. Organizations are strongly encouraged to submit a single response that reflects the views of their organization and membership.

Results of this RFI and updated Strategic Plan will be presented at the June 11, 2021, meeting of the NAEC and the finalized Strategic Plan will be posted on the NEI website once it is approved.

Responses

Responses to this RFI are voluntary. Please do not include any personally identifiable information or any information that you do not wish to make public. Proprietary, classified, confidential, or sensitive information should not be included in your response. The Government will use the information submitted in response to this RFI at its discretion. The Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

NEI encourages the dissemination of this RFI opportunity to broader networks and is looking forward to receiving input from the community. Please provide a written response to NEIPlan@mail.nih.gov by June 7, 2021.

Dated: April 20, 2021.
Nora M. Wong,
Health Science Policy Analyst, National Eye Institute, National Institutes of Health.

[FR Doc. 2021-10287 Filed 5-14-21; 8:45 am]

BILLING CODE 4140-01-P